DEPARTMENT OF ENERGY

Federal Energy Regulatory Commission

[Project No. 12924-001; Project No. 12922-001; Project No. 12919-001; Project No. 12935-001]

Newton Bend, FFP Project 33, LLC; Milliken Bend, FFP Project 35, LLC; Cat Island, FFP Project 36, LLC; Arsenault Island, FFP Project 56, LLC; Notice of Intent To File License Application, Filing of Pre-Application Document, and Approving Use of the Traditional Licensing Process Procedures

July 2, 2009.

a. Type of Filing: Notice of Intent to File License Application and Request to Use the Traditional Licensing Process (TLP).

b. Project Nos.: P-12924, P-12922, P-12919, and P-12935.

c. Dated Filed: January 15, 2009 (P-12924, P-12922, and P-12919) and June 1, 2009 (P-12935).

d. Submitted By: Free Flow Power Corporation and the subsidiary limited liability corporations (listed above and collectively referred to below as “Free Flow Power”).

e. Name of Projects: Free Flow Power Mississippi River TLP Projects (Newton Bend, Milliken Bend, Cat Island, and Arsenault Island).

f. Locations: On the Mississippi River, in Warren (P-12924 and P-12922), Claiborne (P-12924) and Issaquena (P-12919) Counties in Mississippi; Tensas (P-12924), Madison (P-12924 and P-12922), and East Carroll (P-12922 and 12919) Counties in Louisiana; St. Clair County (P-12935), Illinois; and St. Louis City County (P-12935), Missouri. No federal lands are occupied by the project works or located within the project boundary.

g. Filed Pursuant to: 18 CFR 5.3 of the Commission's regulations.

h. Potential Applicant Contact: Ms. Ramya Swaminathan, Vice President, Free Flow Power, 33 Commercial Street, Gloucester, MA 01930, (978) 226-1531, rswaminathan@free-flow-power.com.

i. FERC Contact: Stephen Bowler at (202) 502-6861 or stephen.bowler@ferc.gov and Sarah Florentino at (202) 502-6863 or sarah.florentino@ferc.gov.

j. On January 15, 2009, Free Flow Power filed a Notice of Intent (NOI) to file license applications for original licenses and a Pre-Application Document (PAD) for the 55 hydrokinetic projects proposed for locations in the Mississippi River from St. Louis, Missouri, to New Orleans, Louisiana. They also requested the use of the Traditional Licensing Process (TLP) for 51 of the 55 proposed sites, later changed to 48 of 55 sites. FERC Project Nos. 12924, 12922, and 12919 were part of the January 15, 2009 TLP request, but the newspapers published in the counties in which the projects would be located did not publish the notices. By letter filed on June 1, 2009, Free Flow Power added Project No. 12935 to the list of proposed sites for which the TLP was requested. On May 21, 2009, Free Flow Power filed records of notices published in local newspapers near the four sites between April 1, 2009, and April 8, 2009. No comments were filed in response to the notices.

k. With this notice, we are initiating informal consultation with: (a) The U.S. Fish and Wildlife Service under section 7 of the Endangered Species Act and the joint agency regulations thereunder at 50 CFR, Part 402; (b) NOAA Fisheries under section 305(b) of the Magnuson-Stevens Fishery Conservation and Management Act and implementing regulations at 50 CFR 600.920; and (c) the State Historic Preservation Officers of Illinois, Louisiana, Mississippi, and Missouri, as required by section 106, National Historical Preservation Act, and the implementing regulations of the Advisory Council on Historic Preservation at 36 CFR 800.2.

l. With this notice, we are designating Free Flow Power Corporation as the Commission's non-federal representative for carrying out informal consultation, pursuant to section 106 of the National Historic Preservation Act.

m. Free Flow Power Corporation filed a PAD, including a proposed process plan and schedule, with the Commission, pursuant to 18 CFR 5.6 of the Commission's regulations.

n. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-866-208-3676, of for TTY, (202) 502-8659. A copy is also available for inspection and reproduction at the address in paragraph h.

Register online at http://ferc.gov/esubscribenow.htm to be notified via e-mail of new filing and issuances related to this or other pending projects. For assistance, contact FERC Online Support.

Kimberly D. Bose,
Secretary.

[FR Doc. E9-16438 Filed 7-10-09; 8:45 am]

BILLING CODE 6717-01-P